DEPARTMENT OF HEALTH AND HUMAN SERVICES

Office of Refugee Resettlement

Administration for Children and Families; Notice of Cancellation of Funding

AGENCY: Office of Refugee Resettlement, ACF, DHHS.

ACTION: Notice of cancellation of the Fiscal Year (FY) 2004 Standing Announcement for Services to Recently Arrived Refugees (HHS-2004-ACF-ORR-RE-0004).

CFDA#: 93.576.

Legislative Authority: This program is authorized by section 412 (c)(1)(A) of the Immigration and Nationality Act (INA) 8 U.S.C. 1522 (c)(1)(A), as amended.

SUMMARY: This notice cancels the FY 2004 Standing Announcement for Services to Recently Arrived Refugees (HHS-2004-ACF-ORR-RE-0004) that was published in the Federal Register on April 23, 2004 (Volume 69, pages 22275-22298).

The three priority areas of the FY 2004 Standing Announcement for Services to Recently Arrived Refugees will be published in FY 2008 as three separate Standing Announcements at the Administration for Children and Families' Grant Opportunities Web page at http://www.acf.hhs.gov/grants/index.html and at www.grants.gov. The titles of three Standing Announcements will be the Standing Announcement for the Preferred Communities Program; the Standing Announcement for Supplemental Services for Recently Arrived Refugees; and the Standing Announcement for Ethnic Community Self-Help. The new Standing Announcements and application packages will also be available at www.grants.gov. Interested parties should register with www.grants.gov to receive e-mail alerts announcing publication, application due dates, and application requirements.

FOR FURTHER INFORMATION CONTACT: Susan S. Benjamin, Program Manager, Standing Announcement, Office of Refugee Resettlement, Administration for Children and Families, 370 L'Enfant Promenade, SW., Washington, DC 20047. Telephone: (202) 401-4851. E-mail: Susan.Benjamin@acf.hhs.gov.

Dated: December 19, 2007.
Brent R. Orrell,
Acting Director, Office of Refugee Resettlement.

[FR Doc. E7-25084 Filed 12-27-07; 8:45 am]

BILLING CODE 4184-01-P